DEPARTMENT OF TRANSPORTATION

Federal Aviation Administration

Notice of Availability of Draft Technical Standard Order (TSO)-C166b for Extended Squitter Automatic Dependent Surveillance-Broadcast and Traffic Information Service-Broadcast Equipment Operating on the Radio Frequency of 1090 Megahertz (MHz)

AGENCY: Federal Aviation Administration (FAA), Department of Transportation.

ACTION: Notice of availability and request for comment.

SUMMARY: The FAA is announcing the availability of and requesting comment on proposed TSO-C166b. The Avionic Systems Branch of the Aircraft Engineering Division, Aircraft Certification Service, FAA has presented a proposed revision of existing TSO-C166a. RTCA, Inc. Special Committee (SC)-186 is revising RTCA Document DO-260A, Minimum Operational Performance Standards for 1090 MHz Extended Squitter Automatic Dependent Surveillance-Broadcast (ADS-B) and Traffic Information-Broadcast (TIS-B), which will become the Minimum Performance Standard (MPS) for the proposed TSO-166b. Proposed TSO-C166b can be found at http://www.faa.gov/aircraft/draft_docs/. Comments may be filed electronically following instructions on the webpage. Comments may also be filed using the addresses provided below.

DATES: Comments must be received no later than October 9, 2009.

ADDRESSES: Comments may be submitted by the above deadline to Mr. Chip Bulger, AIR-130, Orville Wright Bldg. (FOB10A), 800 Independence Avenue, SW., Washington, DC 20591; facsimile: 202-385-4651.

FOR FURTHER INFORMATION CONTACT: Mr. Chip Bulger, Avionics Systems Branch, Aircraft Engineering Division, Aircraft Certification Service, Federal Aviation Administration, 470 L'Enfant Plaza, SW., Washington, DC 20591; telephone 202-385-4882; chip.bulger@faa.gov.

Issued in Washington, DC on September 8, 2009.
David W. Hempe,
Manager, Aircraft Engineering Division.

[FR Doc. E9-21953 Filed 9-10-09; 8:45 am]

BILLING CODE 4910-13-P